FEDERAL COMMUNICATIONS COMMISSION

47 CFR Part 73

[DA 03-142; MB Docket No. 02-330, RM-10588]

Radio Broadcasting Services; Jasper, AR

AGENCY: Federal Communications Commission.

ACTION: Proposed rule; dismissal.

SUMMARY: The Audio Division dismisses a petition for rule making filed by JEM Broadcasting Company, Inc., requesting the allotment of Channel 245A to Jasper, Arkansas, as that community's first local aural transmission service. See 67 FR 69703, November 19, 2002. JEM Broadcasting Company, Inc, or no other party, filed comments in support of the allotment of Channel 245A to Jasper, Arkansas. It is the Commission's policy to refrain from making a new allotment to a community absent an expression of interest.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 02-330, adopted January 15, 2003, and released January 17, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

Federal Communications Commission.
John A. Karousos,
Assistant Chief, Audio Division, Media Bureau.

[FR Doc. 03-2475 Filed 2-3-03; 8:45 am]

BILLING CODE 6712-01-P